ENVIRONMENTAL PROTECTION AGENCY

[FRL-8309-5]

Issuance of Final NPDES General Permit for Groundwater Remediation Discharge Facilities in Idaho (Permit No. ID-G91-0000)

AGENCY: Environmental Protection Agency (EPA).

ACTION: Notice of availability of final NPDES general permit.

SUMMARY: The Director, Office of Water and Watersheds, EPA Region 10, is publishing notice of availability of a general National Pollutant Discharge Elimination System (NPDES) permit for groundwater remediation discharge facilities in Idaho, pursuant to the provisions of the Clean Water Act, 33 U.S.C. 1251 et seq. The general permit authorizes the discharge of treated groundwater from new and existing facilities to surface waters of the United States within the State of Idaho. Existing dischargers must apply for coverage within 90 days of the effective date of the permit by submitting a Notice of Intent (NOI) in accordance with the instructions in the permit. New dischargers whose operations commence after the effective date of the general permit must submit a NOI at least 30 days prior to the commencement of the discharge. A fact sheet has also been prepared which sets forth the principle factual, legal, policy, and scientific information considered in the development of the general permit.

The general permit contains a variety of technology-based and water quality-based effluent limitations for 55 pollutants of concern commonly found in contaminated groundwater, along with administrative and monitoring requirements, as well as other standard conditions, prohibitions, and management practices. Effluent limits are applied at end-of-pipe with no mixing zone. However, mixing zones are available on an individual basis at the discretion of the Idaho Department of Environmental Quality (IDEQ) for pollutants with water quality-based effluent limits. Mixing zones will be granted through an individual State certification that will be attached to EPA's authorization to discharge letter.

DATES: Effective Date: The general NPDES permit shall become effective on July 1, 2007.

Public Comment: Pursuant to section 402 of the Clean Water Act, EPA proposed the draft general permit and solicited comments in the Federal Register at 71 FR 34131-34132 (June 13, 2006). Notice of the draft permit was also published in the Idaho Statesman and the Coeur d'Alene Press. The 60 day comment period on the draft permit expired on August 14, 2006. In addition, copies of the draft permit were sent to known groundwater remediation facilities discharging to surface water in Idaho. Changes have been made from the draft permit to the final permit in response to comments received from facility representatives, government agencies, and trade groups. All comments, along with EPA's responses, are summarized in the Response to Comment document. The general permit, fact sheet, and Response to Comment document may be obtained by contacting Robert Rau; USEPA Region 10; 1200 6th Ave, OWW-130; Seattle, Washington 98101; or via e-mail at rau.rob@epa.gov. These documents may also be downloaded from the Region 10 Web site at http://www.epa.gov/r10earth/waterpermits.htm (click on general permits).

Other Legal Requirements

State Water Quality Standards and State Certification

Pursuant to Section 401 of the Clean Water Act, IDEQ has certified that the conditions of the general permit comply with State Water Quality Standards (IDAPA 58.01.02), including the State's antidegradation policy.

Endangered Species Act

EPA has determined that issuance of the groundwater remediation discharge general permit will have no affect any threatened or endangered species, designated critical habitat, or essential fish habitat.

Executive Order 12866

EPA has determined that this general permit is not a “significant regulatory action” under the terms of Executive Order 12866 and is therefore not subject to Office of Management and Budget (OMB) review.

Paperwork Reduction Act

The information collection requirements of this general permit were previously approved by the OMB under the provisions of the Paperwork Reduction Act, 44 U.S.C. 3501 et seq., and assigned OMB control numbers 2040-0086 (NPDES permit application) and 2040-0004 (discharge monitoring reports).

Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b), and is therefore not subject to the RFA.

Unfunded Mandates Reform Act

Section 201 of the Unfunded Mandates Reform Act (UMRA), Public Law 104-4, generally requires federal agencies to assess the effects of their “regulatory actions” (defined to be the same as “rules” subject to the RFA) on tribal, State, and local governments and the private sector. However, the general permit issued today is not a “rule” subject to the RFA, and is therefore not subject to the UMRA.

Appeal of Permit

Any interested person may appeal the general permit in the Federal Court of Appeals in accordance with section 509(b)(1) of the Clean Water Act. This appeal must be filed within 120 days of the permit effective date. Persons affected by the permit may not challenge the conditions of the permit in further EPA proceedings (see 40 CFR 124.19). Instead, they may either challenge the permit in court or apply for an individual NPDES permit.

Signed this 27th day of April, 2007.
Michael F. Gearheard,
Director, Office of Water and Watersheds.

[FR Doc. E7-8664 Filed 5-7-07; 8:45 am]

BILLING CODE 6560-50-P